UNITED STATES INSTITUTE OF PEACE

Notice of Board Meeting

Agency: United States Institute of Peace.

Date/Time: Friday, January 17, 2020 (10:00 a.m.-12:30 p.m.).

Location: 2301 Constitution Avenue NW, Washington, DC 20037.

Status: Open Session—Portions may be closed pursuant to Subsection (c) of Section 552(b) of Title 5, United States Code, as provided in subsection 1706(h)(3) of the United States Institute of Peace Act, Public Law 98-525.

Agenda: January 17, 2020 Board Meeting: Chairman's Report; Vice Chairman's Report; President's Report; Approval of Minutes of the October 18, 2019 Board of Directors Meeting; Report from the Office of Administration; Reports from USIP Building, Program, Audit & Finance and Security Committees; and Reports/Updates from the Front Lines: Iran/Iraq, Sudan/Ethiopia, and the Afghanistan Peace Process.

Contact: Megan O'Hare, Chief of Staff: mohare@usip.org.

Dated: February 20, 2020.
Megan O'Hare,
Chief of Staff.

[FR Doc. 2020-03761 Filed 2-24-20; 8:45 am]

BILLING CODE 6820-AR-P